DEPARTMENT OF COMMERCE

National Oceanic and Atmospheric Administration

RIN 0648-XE417, 0648-XE061, 0648-XE815, and 0648-XE908

Marine Mammals and Endangered Species; File Nos. 19225, 19257, 19315, 19674, and 20599

AGENCY: National Marine Fisheries Service (NMFS), National Oceanic and Atmospheric Administration (NOAA), Commerce.

ACTION: Notice; issuance of permits.

SUMMARY: Notice is hereby given that permits have been issued to the following entities:

Permit No. 19225: James D. Darling, Ph.D., Whale Trust, P.O. Box 384, Tofino, BC V0R2Z0 Canada;

Permit No. 19257: Ann M. Zoidis, Director, Cetos Research Organization, 11 Des Isle Avenue, Bar Harbor, ME 04609;

Permit No. 19315: Center for Coastal Studies, Right Whale Ecology Program, 5 Holway Avenue, P.O. Box 1036, Provincetown, MA 02657 [Responsible Party: Richard Delaney];

Permit No. 19674: Scott Kraus, Ph.D., New England Aquarium, Edgerton Research Lab, Central Wharf, Boston MA 02110; and

Permit No. 20599: NMFS Southwest Fisheries Science Center, Antarctic Ecosystem Research Division, La Jolla, California [Responsible Party: George Watters, Ph.D.].

ADDRESSES: The permits and related documents are available for review upon written request or by appointment in the Permits and Conservation Division, Office of Protected Resources, NMFS, 1315 East-West Highway, Room 13705, Silver Spring, MD 20910; phone (301) 427-8401; fax (301) 713-0376.

FOR FURTHER INFORMATION CONTACT: Rosa González (File Nos. 19225 and 19257), Carrie Hubard (File Nos. 19225 and 19257), Amy Hapeman (File Nos. 19315 and 19674), and Sara Young (File Nos. 19315, 19674, 20599).

SUPPLEMENTARY INFORMATION: Notices were published in the Federal Register that requests for a permit had been submitted by the above-named applicants. The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Permit No. 19225: The requested permit (81 FR 5990, November 1, 2016) authorizes Dr. Darling to use passive acoustic monitoring, active playbacks, suction cup and dart tagging, biopsy sampling, underwater photography/videography, photo ID and photogrammetry during aerial and vessel surveys to address a variety of questions regarding social organization, behavior, and communication of humpback whales (Megaptera novaeangliae). Research may occur off Hawaii (primarily off west Maui), and Alaska. Incidental harassment is authorized for the following non-target species: North Pacific right whales (Eubalaena japonica); false killer whales (Pseudorca crassidens); Dall's porpoises (Phocoenoides dalli); spinner (Stenella longirostris), pantropical spotted (S. attenuata), and bottlenose dolphins (Turisiops truncatus); killer whales (Orcinus orca); Hawaiian monk seals (Neomonachus schauinslandi); harbor seals (Phoca vitulina); and Steller sea lions (Eumetopias jubatus). The permit is valid until October 31, 2021.

Permit No. 19257: The requested permit (80 FR 59736, November 1, 2016) authorizes Ms. Zoidis to use passive acoustic monitoring, suction cup tagging, biopsy sampling, underwater photography/videography, and photo ID during vessel surveys in Hawaii and the Mariana Islands (Guam and the Commonwealth of the Northern Mariana Islands) to address a variety of questions regarding population size, habitat use, and behavior of baleen and odontocete species. The research would target humpback whales and 25 other species of whales and dolphins. Species may undergo all methodologies (except right whales, which will not be tagged). Incidental harassment for all species is also authorized. Research would take place throughout the year. The permit is valid until October 31, 2021.

Permit No. 19315: The requested permit (81 FR 59192, August 29, 2016) authorizes researchers to conduct vessel and aerial surveys of North Atlantic right whales (Eubalaena glacialis) and bowhead whales (Balaena mysticetus) opportunistically in Atlantic waters from Maine to New Jersey to gain a better understanding of right whale population status, relationship to habitat conditions, distribution and abundance, movement patterns, and interactions with human activities. Surveys may involve approach for observation, photo-identification, and prey mapping. Up to 16 other species of cetaceans and four species of pinnipeds may be incidentally harassed during surveys. The request to suction cup tag a subset of right whales was denied. The permit is valid for five years from the date of issuance.

Permit No. 19674: The requested permit (81 FR 59192, August 29, 2016) authorizes Dr. Kraus to conduct vessel and aerial surveys of North Atlantic right whales in U.S. and international waters of the North Atlantic from Florida to Iceland to assess, quantify, and track trends in the demographic characteristics of right whales; and to identify, quantify and monitor the long term trends in anthropogenic impacts on the species. Surveys may involve approach for observation, photo-identification, and biopsy and blow sampling, thermal imaging, passive acoustic recording, collection of sloughed skin and feces, photogrammetry, and/or incidental harassment of right whales. Right whale parts may be received, imported or exported. Humpback whales, harbor porpoises (Phocoena phocoena), and Atlantic white-sided dolphins (Lagenorhynchus acutus) may be incidentally harassed during vessel surveys. The permit is valid for five years from the date of issuance.

Permit No. 20599: The requested permit (81 FR 66928, September 29, 2016) authorizes researchers to take Antarctic fur seals (Arctocephalus gazella), southern elephant seals (Mirounga leonina), crabeater seals (Lobodon carcinophagus), leopard seals (Hydrurga leptonyx), Ross seals (Ommatophoca rossii), and Weddell seals (Leptonychotes weddellii) for life history studies and census surveys for abundance and distribution of pinnipeds in the South Shetland Islands, Antarctica, as part of a long-term ecosystem monitoring program established in 1986. The applicant also requests permission to import tissue samples collected from any animals captured and from salvaged carcasses of any species of pinniped or cetacean found in the study area. The permit is valid for five years from the date of issuance.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in section 2 of the ESA.

Dated: December 13, 2016.
Julia Harrison,
Chief, Permits and Conservation Division, Office of Protected Resources, National Marine Fisheries Service.

[FR Doc. 2016-30414 Filed 12-16-16; 8:45 am]

BILLING CODE 3510-22-P